DEPARTMENT OF HEALTH AND HUMAN SERVICES

Office of Global Affairs: Stakeholder Listening Session in Preparation for the 67th World Health Assembly

Time and date: May 9, 2014, 12:00-1:30 p.m. EST.

Place: Willow Conference Room, Thomas P. O'Neill Federal Building, 200 C St. SW., Washington, DC 20024.

Status: Open, but requiring RSVP to OGA.RSVP@hhs.gov.

Purpose

The U.S. Department of Health and Human Services (HHS)—charged with leading the U.S. delegation to the 67th World Health Assembly—will hold an informal Stakeholder Listening Session on Friday, May 9, 12:00-1:30 p.m., in the Willow Conference Room of the Thomas P. O'Neill Federal Building, 200 C St. SW., Washington, DC 20024.

The Stakeholder Listening Session will help the HHS Office of Global Affairs prepare for the World Health Assembly by taking full advantage of the knowledge, ideas, feedback, and suggestions from all communities interested in and affected by agenda items to be discussed at the 67th World Health Assembly. Your input will contribute to U.S. positions as we negotiate these important health topics with our international colleagues.

The listening session will be organized around the interests and perspectives of stakeholder communities, including, but not limited to:

• Public health and advocacy groups;

• State, local, and Tribal groups;

• Private industry;

• Minority health organizations; and

• Academic and scientific organizations.

It will allow public comment on all agenda items to be discussed at the 67th World Health Assembly: http://apps.who.int/gb/ebwha/pdf_files/WHA67/A67_1-en.pdf.

RSVP

Due to security restrictions for entry into the HHS Thomas P. O'Neill Federal Building, we will need to receive RSVPs for this event. Please send your full name and organization to OGA.RSVP@hhs.gov. If you are not a U.S. citizen, please note this in the subject line of your RSVP, and our office will contact you to gain additional biographical information for your clearance. Please RSVP no later than Friday, May 2, 2014.

Written comments are welcome and encouraged, even if you are planning on attending in person. Please send these to the same email address: OGA.RSVP@hhs.gov.

We look forward to hearing your comments relative to the 67th World Health Assembly agenda items.

Dated: April 7, 2014.
Jimmy Kolker,
Assistant Secretary for Global Affairs.

[FR Doc. 2014-08396 Filed 4-16-14; 8:45 am]

BILLING CODE 4150-38-P